DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by February 22, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Forest Service

Title: Storage and Use of Explosives and Magazine Security on National Forest System Lands Under a Special Use Authorization.

OMB Control Number: 0596-0252.

Summary of Collection: Existing directives in the Forest Service Manual and Handbook are being revised to improve security and administration of explosive magazines and explosives use that are authorized under a special use authorization. The revisions clarify that all non-Forest Service storage and use of explosives, including use and storage of military weapons and ammunition for purposes of avalanche mitigation on National Forest System lands, must be authorized by a special use authorization that contains clause B-29 in Forest Service Handbook 2709.11, Chapter 50, section 52.2, on storage and use of explosives and magazine security. Clause B-29 requires authorization holders to comply with applicable United States Department of Justice, Bureau of Alcohol, Tobacco, Firearms and Explosives, state, or Department of the Army requirements and applicable Forest Service requirements.

Need and Use of the Information: To allow the Forest Service to monitor holder compliance with clause B-29, the revised directives require holders of an authorization containing the clause to submit certain documentation annually as part of their operating plan. The required documentation includes copies of a log containing the date and type of magazine inspections (including inspections required every seven days) and the date all deficiencies identified in any magazine inspection report were corrected; copies of any magazine inspection reports; a copy of the holder's current ATF-issued federal explosives license or federal explosives permit, if applicable; and a copy of a log containing the date of the most recent magazine lock and key replacement.

Description of Respondents: Holders of a special use authorization authorizing the storage and use of explosives.

Number of Respondents: 60.

Frequency of Responses: Annually.

Total Burden Hours: 10.

Forest Service

Title: Community Wildfire Defense Grant (CWDG) Program.

OMB Contol Number: 0596-0253.

Summary of Collection: The Community Wildfire Defense Grant Program forms will be used by applicants to apply for the Community Wildfire Defense Grant (CWDG) Program. The purpose of the CWDG Program is to assist at-risk local communities and Indian Tribes with planning and mitigating against the risk created by wildfire. This program is authorized in the Infrastructure Investment and Jobs Act (Pub. L. 117-58), commonly referred to as the Bipartisan Infrastructure Law (BIL). Specifically, the CWDG Program is provided for in Title VIII, Section 40803. There are two primary project types for which the grant provides funding: the development and revision of Community Wildfire Protection Plans (CWPP) and the implementation of projects described in a CWPP that is less than ten years old. The Act prioritizes at-risk communities that are in an area identified as having high or very high wildfire hazard potential, are low-income, and/or have been impacted by a severe disaster.

Need and Use of the Information: Information collected includes name of organization, type of land work where will be performed, how project addresses State Forest Action Plan and the Cohesive Wildland Fire Management Strategy, if the community is considered underserved, amount of Federal funds requested and any non-Federal matching funds, name of lead agency/organization (if any), grant period, project narrative, project budget, project outcomes, how project will be maintained, and other miscellaneous information. This information is collected from any entity who voluntarily applies for Forest Service funding and wishes to participate in the program. This information is used by the Forest Service to determine which projects will be funded by the Community Wildfire Defense Grant Program.

Description of Respondents: Not-for-profit institutions; State, Local, Tribal governments.

Number of Respondents: 1,440.

Frequency of Responses: Annually.

Total Burden Hours: 9,870.

Levi S. Harrell,
Departmental Information Collection Clearance Officer.

[FR Doc. 2023-01168 Filed 1-20-23; 8:45 am]

BILLING CODE 3411-15-P